DEPARTMENT OF TRANSPORTATION

Federal Aviation Administration

14 CFR Part 39

[Docket No. FAA-2004-18038; Directorate Identifier 2004-NE-01-AD]

Notice of Public Meeting

SUMMARY: The Federal Aviation Administration (FAA) will hold a public meeting to gather additional comment and data on a proposed Airworthiness Directive published as a Notice of Proposed Rulemaking (NPRM), Docket Number FAA-2004-18038, (Directorate Identifier 2004-NE-01-AD), in the Federal Register on June 16, 2004. This public meeting will follow the procedure provided in § 11.53 of Title 14 of the Code of Federal Regulations (14 CFR 11.53).

DATES: The FAA public meeting will be held February 8, 2005, from 1 p.m. to 5 p.m.

ADDRESSES: The FAA public meeting will be held at the Anaheim Convention Center, 800 West Katella Avenue, Anaheim, California, 92802.

FOR FURTHER INFORMATION CONTACT: Robert Baitoo, Aerospace Engineer, Los Angeles Aircraft Certification Office, FAA, Transport Airplane Directorate, 3960 Paramount Blvd., Lakewood, CA 90712-4137; telephone: (562) 627-5245, fax: (562) 627-5210.

SUPPLEMENTARY INFORMATION:

Background

On June 16, 2004, the FAA published in the Federal Register a Notice of Proposed Rulemaking, Docket Number FAA-2004-18038, (Directorate Identifier 2004-NE-01-AD), that proposed a new Airworthiness Directive (AD) Honeywell International Inc., (formerly AlliedSignal, Inc., formerly Textron Lycoming) T5309, T5311, T5313B, T5317A, T5317A-1, and T5317B series turboshaft engines, installed on, but not limited to, Bell 205 and Kaman K-1200 series helicopters, and T53-L-9, T53-L-11, T53-L-13B, T53-L-13BA, T53-L-13B S/SA, T53-L-13B S/SB, T53-L-13B/D, and T53-L-703 series turboshaft engines, installed on, but not limited to, Bell AH-1 and UH-1 helicopters, certified under § 21.25 or 21.27 of the Code of Federal Regulations (14 CFR 21.25 or 14 CFR 21.27). As a result of that Notice of Proposed Rulemaking, we received a number of written comments. One commenter requested that we hold a public meeting for the FAA to hear additional information. While the FAA does not generally hold public meetings for proposed Airworthiness Directives, in this case we believe that a non-adversarial, fact-finding proceeding will benefit us. Therefore, we find that the written comments we have received will not allow us to make a fully informed decision on whether to issue a Final Rule, and that a public meeting to hear additional comment on the proposed AD is appropriate. We invite interested persons to attend and present their views to us on specific issues related to this Notice of Proposed Rulemaking. We are particularly interested in hearing from operators of aircraft using T53 turboshaft engines what life limits they are observing for the life-limited rotating components of T53 series turboshaft engines, what cycle counting methods are they practicing, and what mission profile (i.e., logging operation, fire fighting) are they flying.

Agenda

The purpose of this meeting is to:

• (Item 1) Conduct a presentation on the background leading to the Notice of Proposed Rulemaking (NPRM), Docket Number FAA-2004-18038, (Directorate Identifier 2004-NE-01-AD), published in the Federal Register on June 16, 2004. The subject of the NPRM is FAA-approved life limits for the life limited rotating components including those made of D979 material, installed in Honeywell (formerly AlliedSignal, formerly Lycoming) T53 series turboshaft engines.

• (Item 2) Invite the interested persons to present their views to the FAA regarding the NPRM.

• (Item 3) Ask the operators of T53 series turboshaft engine powered helicopters what life limits they are observing for the life-limited rotating components of T53 series turboshaft engines, what cycle counting methods are they practicing; and what mission profile (i.e., logging operation, fire fighting) are they flying.

Procedure

The meeting will be held using the procedure provided in § 11.53 of Title 14 of the Code of Federal Regulations (14 CFR 11.53). The meeting will be open to the public, non-adversarial, and be conducted by a representative of the FAA. In addition, each person desiring to make a presentation must either notify us in advance of the meeting by contacting Robert Baitoo (see FOR FURTHER INFORMATION CONTACT), or by signing the registers that will be available immediately preceding the meeting at the meeting location. Those persons who have registered in advance or at the door will be invited to speak first. If any time remains after all persons who have pre-registered to speak have had an opportunity to present their views, then other persons who have not pre-registered may be invited to speak. When registering to speak, you must indicate whether you intend to speak in favor of the proposed AD, against the proposed AD, or wish only to present data. You may both present data and speak either in favor or against the AD. The time available for each person to speak may be limited depending on the number of persons who desire to present data and information. It is our desire to allow as many persons as possible to present their views and data.

Accommodation

The meeting will be accessible to persons with disabilities. Requests for sign language interpretation or other auxiliary aids should be directed to Robert Baitoo (see FOR FURTHER INFORMATION CONTACT) before January 25, 2005.

Costs

There is no cost to the public for attending the FAA public meeting. Each attendee must, however, bear any cost of vehicle parking.

Dated: December 30, 2004.
Jay J. Pardee,
Manager, Engine and Propeller Directorate, Aircraft Certification Service.

[FR Doc. 05-272 Filed 1-5-05; 8:45 am]

BILLING CODE 4910-13-P